DEPARTMENT OF JUSTICE

Federal Bureau of Prisons

Notice of Availability of the Draft Environmental Impact Statement for the Criminal Alien Requirement 9

AGENCY: U.S. Department of Justice, Federal Bureau of Prisons.

ACTION: Public comment on Draft Environmental Impact Statement.

SUMMARY: The U.S. Department of Justice, Federal Bureau of Prisons (Bureau) announces the availability of the Draft Environmental Impact Statement (DEIS) for the proposed contract to secure additional inmate bed space for the Bureau's growing inmate population.

As part of a recent initiative known as the Criminal Alien Requirement 9 (CAR 9), the Bureau has identified a specific requirement to confine a population of up to 2,500 low-security adult male inmates, that are primarily criminal aliens. The Bureau is seeking to reduce prison overcrowding by requesting additional contract beds for low-security male criminal aliens.

Background Information

In accordance with the National Environmental Policy Act (NEPA) of 1969, the Council of Environmental Quality Regulations (40 CFR parts 1500-1508), and the Department of Justice procedures for implementing NEPA (28 CFR part 61), the Bureau has prepared a Draft Environmental Impact Statement for the proposed contract with one or more private contractors to house up to 2,500 federal, low-security, adult male, non-U.S. citizen, criminal aliens at contractor-owned, contractor-operated correctional facilities located in Baldwin, Michigan and/or Lake City, Florida. Inmates housed in these facilities would be aliens from any number of countries who have committed crimes within the U.S. and are being held for trial, or who have been convicted and sentenced to serve time within the federal prison system. Upon completion of their sentences, these inmates would be deported to their country of origin.

Project Information

The Bureau's DEIS evaluates the potential environmental consequences of two action alternatives and the No Action Alternative. Under Alternative 1, the Bureau would contract with the GEO Group to house approximately 1,889 federal, low-security, adult male, non-U.S. citizen, criminal aliens at the North Lake Correctional Facility in Baldwin, Michigan. The Baldwin, Michigan site is located in Lake County, Michigan and consists of approximately 105 acres of which the existing North Lake Correctional Facility comprises 24 acres. Under Alternative 2, the Bureau would contract with Civigenics (also known as Community Education Centers, Inc.) to house up to 1,268 federal inmates. The Lake City, Florida site, located in Columbia County, is comprised of an 80-acre parcel of land which is undeveloped. The property has not yet been developed by the contractor, but the contractor has the option to purchase 53.3 acres of the total 80-acre parcel. The proposed correctional facility would then be developed on approximately 40 acres of the total 53.3 acres, with the most northern 13.3 acres maintained as a natural buffer. The principal function of the correctional facility would be to provide a safe, secure and humane environment for the care and custody of federal inmates. Upon award of the contract, one of the correctional facilities at either alternative site would be activated, and the facility would have staff of approximately 250 full-time employees would provide 24-hour supervision. Under the No Action Alternative, the Bureau would not contract with a contractor-owned, contractor-operated facility to house up to 2,500 inmates currently under the jurisdiction of the Bureau. The No Action Alternative serves as a baseline against which to compare the action alternatives; however, it is not considered a viable alternative.

One Environmental Assessment and Phase I Environmental Site Assessment were prepared for each of the proposed alternative site locations in 2008. The information obtained in these documents was used in preparing the DEIS.

Public Hearing and Open House

The Bureau invites you to learn and comment about the proposed project at the Public Hearing on the proposed contracting action alternatives and the evaluation contained in the DEIS. Public Hearings will be held at 5 p.m. November 17, 2009 at the Columbia County Public Library, West Branch located at 435 NW. Hall of Fame Drive, Lake City, Florida and at 5 p.m., November 24, 2009 at the Webber Township Hall located at 2286 West Springtime Street, Baldwin, Michigan. The public hearing locations, dates, and times will be well publicized and have been arranged to allow for the public, as well as interested agencies and organizations to attend. The Public Hearings are being held to allow interested persons to formally express their views on the DEIS. The Public Hearings will provide for timely public comments and understanding of federal plans and programs with possible environmental consequences as required by NEPA and the National Historic Preservation Act of 1966, as amended.

Request for Comments

The DEIS will be the subject of a 45-day comment period which begins November 6, 2009 and ends December 21, 2009. Comments concerning the DEIS and the proposed action must be received during this time to be assured consideration. All written comments received during this review period will be taken into consideration by the Bureau. Copies of the DEIS are available for public viewing at: Columbia County Public Library, 308 NW. Columbia Avenue, Lake City, Florida 32055; Columbia County Public Library, West Branch, 435 NW. Hall of Fame Drive, Lake City, Florida 32055; Pathfinder Community Library, 812 Michigan Ave., Baldwin, MI 49304; Webber Township Hall, 2286 West Springtime Street, Baldwin, Michigan 49304.

The DEIS and other information regarding this project are available upon request. To request a copy of the DEIS, please contact: Richard A. Cohn, Chief, or Issac J. Gaston, Site Selection Specialist, Capacity Planning and Site Selection Branch, Federal Bureau of Prisons, 320 First Street, NW., Washington, DC 20534, Tel: 202-514-6470, Fax: 202-616-6024/E-mail: rcohn@bop.gov or igaston@bop.gov.

FOR FURTHER INFORMATION CONTACT: Richard A. Cohn, or Issac J. Gaston, Federal Bureau of Prisons.

Dated: October 30, 2009.
Issac J. Gaston,
Site Specialist, Capacity Planning and Site Selection Branch.

[FR Doc. E9-26727 Filed 11-5-09; 8:45 am]

BILLING CODE P